DEPARTMENT OF EDUCATION

[CFDA No.: 84.133D]

Office of Special Education and Rehabilitative Services; National Institute on Disability and Rehabilitation Research; Notice Inviting Applications and Pre-Application for a New Disability and Rehabilitation Research Projects for Fiscal Year 2001-2002

AGENCY: Department of Education.

ACTION: Correction Notice.

SUMMARY: On January 8, 2001 a notice inviting applications for new awards for a National Center on Accessible Education-Based Information Technology and the Disability and Business Technical Assistance Centers for Fiscal Years (FY) 2001-2002 was published in the Federal Register (66 FR 1480). This notice corrects the CFDA number listed under “Funding Priority” for the National Center on Accessible Education-Based Information Technology and the Disability (84.133D) and Business Technical Assistance Centers (84.133-D8). The CFDA number is corrected to read the National Center on Accessible Education-Based Information Technology and the Disability (84.133-D3) and Business Technical Assistance Centers (84.133-D2).

FOR FURTHER INFORMATION CONTACT: Donna Nangle. Telephone: (202) 205-5880. Individuals who use a telecommunications device for the deaf (TDD) may call the TDD number at (202) 205-9136. Internet: Donna_Nangle@ed.gov

Individuals with disabilities may obtain this document in an alternative format (e.g., Braille, large print, audiotape, or computer diskette) on request to the contact person listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the preceding sites. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.access.gpo.gov/nara/index.html

(Catalog of Federal Domestic Assistance Numbers: 84.133D, Disability and Rehabilitation Research Projects)

Program Authority: 29 U.S.C. 762(g) and 764(b)(4).

Dated: January 17, 2001.
Judith E. Heumann,
Assistant Secretary for Special Education and Rehabilitative Services.

[FR Doc. 01-1875 Filed 1-22-01; 8:45 am]

BILLING CODE 4000-01-P